DEFENSE NUCLEAR FACILITIES SAFETY BOARD

Privacy Act of 1974; System of Records

AGENCY: Defense Nuclear Facilities Safety Board.

ACTION: Notice of a new system of records.

SUMMARY: In accordance with the Privacy Act of 1974, the Defense Nuclear Facilities Safety Board (DNFSB) proposes to establish a new system of records titled “DNFSB—10, Reasonable Accommodation Records.” This system of records will include information that DNFSB collects and maintains records on applicants for employment, and employees who request and/or receive reasonable accommodations from DNFSB for medical or religious reasons.

DATES: Submit comments on or before October 4, 2022. This action will be applicable on October 5, 2022. unless comments are received that would result in a contrary determination.

ADDRESSES: You may submit written comments at any time prior to the comment deadline by either of the following methods:

Email: Send comments to comment@dnfsb.gov. Please include “Reasonable Accommodation SORN” in the subject line of your email.

Mail or Hand Delivery: Send hard copy comments to the Defense Nuclear Facilities Safety Board, Attn: General Manager, 625 Indiana Avenue NW, Suite 700, Washington, DC 20004-2901.

FOR FURTHER INFORMATION CONTACT: James Biggins, General Manager, Defense Nuclear Facilities Safety Board, 625 Indiana Avenue NW, Suite 700, Washington, DC 20004-2901, (202) 694-7000 (Toll Free (800) 788-4016.)

SUPPLEMENTARY INFORMATION: In accordance with the Privacy Act of 1974, the Defense Nuclear Facilities Safety Board (DNFSB) proposes to establish a new system of records titled “DNFSB-10, Reasonable Accommodation Records.” It applies to DNFSB's collection and maintenance of records on applicants for employment, employees, and other individuals who participate in DNFSB programs or activities who request or receive reasonable accommodations or other appropriate modifications from DNFSB for medical or religious reasons.

Title V of the Rehabilitation Act of 1973, as amended, prohibits discrimination in services and employment on the basis of disability, and Title VII of the Civil Rights Act of 1974 prohibits discrimination, including discrimination based on religion. These prohibitions on discrimination require Federal agencies to provide reasonable accommodations to individuals with disabilities and those with sincerely held religious beliefs unless doing so would impose an undue hardship. In some instances, individuals may request modifications to their workspace, schedule, duties, or other requirements for documented medical reasons that may not qualify as a disability, but which may necessitate an appropriate modification to workplace policies and practices.

Reasonable accommodations may include, but are not limited to: Making existing facilities readily accessible to individuals with disabilities; restructuring jobs, modifying work schedules or places of work, and providing flexible scheduling for medical appointments or religious observance; acquiring or modifying equipment or examinations or training materials; providing qualified readers and interpreters, personal assistants, service animals; granting permission to wear religious dress, hairstyles, or facial hair or to observe a religious prohibition against wearing certain garments; considering requests for medical and religious exemptions to specific workplace requirements; and making other modifications to workplace policies and practices.

DNFSB's Division of Human Resources processes requests for reasonable accommodation from employees and applicants for employment who require an accommodation due to a medical or religious reason. It also processes requests based on documented medical reasons that may not qualify as a disability but that necessitate an appropriate modification to workplace policies and practices.

The system of records includes documentation provided in support of the request, any evaluation conducted internally or by a third party under contract to DNFSB, the decision to grant or deny a request, and the details and conditions of the reasonable accommodation. These materials are listed more specifically below.

DNFSB has provided a report of this system of records to the Committee on Oversight and Reform of the House of Representatives, the Committee on Homeland Security and Governmental Affairs of the Senate, and the Office of Information and Regulatory Affairs of the Office of Management and Budget (OMB), pursuant to 5 U.S.C. 552a(r) and OMB Circular A- 108, “Federal Agency Responsibilities for Review, Reporting, and Publication under the Privacy Act,” dated December 23, 2016.

SYSTEM NAME AND NUMBER:

DNFSB -10, Reasonable Accommodation Records.

SECURITY CLASSIFICATION:

Unclassified.

SYSTEM LOCATION:

Defense Nuclear Facilities Safety Board, 625 Indiana Avenue NW, Suite 700, Washington, DC 20004-2901.

SYSTEM MANAGER:

Director, Human Resources Division, Defense Nuclear Facilities Safety Board, Office of the General Manager, 625 Indiana Avenue NW, Suite 700, Washington, DC 20004-2901.

Telephone: (202) 694-7000 (Toll Free (800) 788-4016).

AUTHORITY FOR MAINTENANCE OF THE SYSTEM:

5 U.S.C. 301, 302; The Rehabilitation Act of 1973, 29 U.S.C. 701, 791, 794; Title VII of the Civil Rights Act of 1964, 42 U.S.C. 2000e; 29 CFR 1614 (Federal Sector Equal Employment Opportunity); 42 U.S.C. 2000bb; Executive Order 13163 (Increasing the Opportunity for Individuals with Disabilities To Be Employed in the Federal Government) (July 26, 2000); Executive Order 13164 (Requiring Federal Agencies to Establish Procedures to Facilitate the Provision of Reasonable Accommodation) (July 26, 2000); and Executive Order 13548 (Increasing Federal Employment of Individuals with Disabilities) (July 26, 2010).

PURPOSE(S) OF THE SYSTEM:

The purpose of this system of records is to allow the DNFSB to collect and maintain records on applicants for employment, employees, and other individuals who participate in DNFSB programs or activities who request or receive reasonable accommodations or other appropriate modifications from DNFSB for medical or religious reasons; to process, evaluate, and make decisions on individual requests; and to track and report the processing of such requests to comply with applicable requirements in law and policy.

CATEGORIES OF INDIVIDUALS COVERED BY THE SYSTEM:

Applicants for employment, current and former DNFSB employees, and other individuals who participate in DNFSB activities, who request and/or receive reasonable accommodations for or other appropriate modifications from DNFSB for medical or religious reasons.

CATEGORIES OF RECORDS IN THE SYSTEM:

1. Requester's name and contact information (address(es), telephone number(s), email address(es);

2. Requester's employment status (applicant or employee);

3. Date of request;

4. Employee's position, title, grade, series, step;

5. Information concerning the nature of the requester's medical condition or disability and any medical documentation provided in support of the request;

6. Requester's statement of a sincerely held religious belief and any additional information submitted concerning that belief and the need for an accommodation to exercise that belief;

7. Description of the requested accommodation, how the requested accommodation would assist in job performance, and the sources of technical assistance consulted in effort to identify alternative reasonable accommodation;

8. Whether the request was made orally or in writing;

9. Whether the request for reasonable accommodation was approved, denied, or approved for a trial period, and if denied or approved for a trial period, the reason(s) for such decision;

10. Any reports or evaluations prepared in determining whether to grant or deny the request;

11. Any additional information collected or developed in connection with the request for a reasonable accommodation; and

12. Notification(s) to the employee and his/her supervisor(s) regarding the accommodation.

RECORD SOURCE CATEGORIES:

Information is obtained from the individuals who request and/or receive a reasonable accommodation or other appropriate modification from DNFSB, directly or indirectly from an individual's medical provider or another medical professional who evaluates the request, directly or indirectly from an individual's religious or spiritual advisors or institutions and from management officials.

ROUTINE USES OF RECORDS MAINTAINED IN THE SYSTEM, INCLUDING CATEGORIES OF USERS AND PURPOSES OF SUCH USES:

In addition to those disclosures generally permitted under 5 U.S.C. 552a(b) of the Privacy Act, if it is determined to be relevant and necessary, all or a portion of the records or information contained in this system may be disclosed to authorized entities outside DNFSB as a routine use pursuant to 5 U.S.C. 552a(b)(3), as follows:

1. To federal, state, local, tribal, foreign, or international agencies if the information is relevant and necessary to that agency's decision concerning the hiring or retention of an individual, the issuance of a security clearance, conducting a suitability or security investigation of an individual, the classifying of jobs, the letting of a contract or the issuance of a license, grant, or other benefit by such agency, or if the information is relevant and necessary to a DNFSB decision concerning the hiring or retention of an individual, the issuance of a security clearance, conducting a suitability or security investigation of an individual, the classifying of jobs, the letting of a contract or the issuance of a license, grant, or other benefit concerning the hiring or retention of an employee, the issuance of a security clearance, the reporting of an investigation of an employee, the letting of a contract, or the issuance of a license, grant, or other benefit.

2. To a member of Congress or congressional staff in response to an inquiry about an individual from that congressional office made at the request of such individual.

3. To the appropriate federal, state, or local agency responsible for investigating, prosecuting, enforcing, or implementing a statute, rule, regulation, or order, when a record, either on its face or in conjunction with other information, indicates or is relevant to a violation or potential violation of civil or criminal law or regulation.

4. To the Department of Justice, including Offices of the U.S. Attorneys; another federal agency conducting litigation or in a proceeding before any court, adjudicative body, or administrative body; another party in litigation before a court, adjudicative body, or administrative body; or to a court, adjudicative, or administrative body. Such disclosure is permitted only when it is relevant or necessary to the litigation or proceeding, and one of the following is a party to the litigation or has an interest in such litigation:

A. DNFSB or any component thereof;

B. Any employee or former employee of DNFSB in his or her official capacity;

C. Any employee or former employee of DNFSB in his or her individual capacity when the Department of Justice or DNFSB has agreed to represent the employee, or

D. The United States, a federal agency, or another party in litigation before a court, adjudicative, or administrative body, upon the approval of the DNFSB General Counsel, pursuant to 10 CFR part 1707 or otherwise.

5. To the National Archives and Records Administration (NARA) in connection with records-management inspections being conducted under authority of 44 U.S.C. 2904 and 2906.

6. To physicians or other medical professionals to provide them with or obtain from them the necessary medical documentation and/or certification for reasonable accommodations.

7. To appropriate agencies, entities, and persons when (1) the DNFSB suspects or has confirmed that there has been a breach of the system of records, (2) the DNFSB has determined that as a result of the suspected or confirmed breach there is a risk of harm to individuals, the DNFSB (including its information systems, programs, and operations), the Federal Government, or national security; and (3) the disclosure made to such agencies, entities, and persons is reasonably necessary to assist in connection with the DNFSB's efforts to respond to the suspected or confirmed breach or to prevent, minimize, or remedy such harm.

8. To another federal agency or federal entity, when DNFSB determines that information from this system of records is reasonably necessary to assist the recipient agency or entity in (1) responding to a suspected or confirmed breach or (2) preventing, minimizing, or remedying the risk of harm to individuals, the recipient agency, or entity (including its information systems, programs, and operations), the federal government, or national security, resulting from a suspected or confirmed breach.

9. To appropriate agencies, entities, and persons when DNFSB: (1) suspects or has confirmed that the security or confidentiality of information in the system of records has been compromised; (2) determines that as a result of the suspected or confirmed compromise there is a risk of harm to economic or property interests, identity theft or fraud, or harm to the security or integrity of this system or other systems or programs (whether maintained by DNFSB or another agency or entity) that rely upon the compromised information; (3) deems the disclosure made to such agencies, entities, and persons is reasonably necessary to assist in connection with DNFSB's efforts to respond to the suspected or confirmed compromise and prevent, minimize, or remedy such harm; and (4) to deter and detect insider threats in accordance with Executive Order 13587.

10. To federal and foreign government intelligence or counterterrorism agencies when DNFSB reasonably believes there to be a threat or potential threat to national or international security for which the information may be useful in countering the threat or potential threat, when DNFSB reasonably believes such use is to assist in anti-terrorism efforts, and disclosure is appropriate to the proper performance of the official duties of the person making the disclosure.

11. To non-federal workers such as contractors, grantees, experts, consultants, and the agents thereof, performing or working on a contract, service, grant, cooperative agreement, or other assignment for DNFSB when DNFSB determines that it is necessary to accomplish an agency function related to this system of records. Individuals provided information under this routine use are subject to the same Privacy Act requirements and limitations on disclosure as are applicable to DNFSB employees.

12. To another federal agency or commission with responsibility for labor or employment relations or other issues, including equal employment opportunity and reasonable accommodation issues, when that agency or commission has jurisdiction over reasonable accommodation.

13. To an authorized appeal grievance examiner, formal complaints examiner, administrative judge, equal employment opportunity investigator, arbitrator, or other duly authorized official engaged in the investigation or settlement of a grievance, complaint, or appeal filed by an individual who requested a reasonable accommodation or other appropriate modification.

14. To another federal agency, including but not limited to the Equal Employment Opportunity Commission and the Office of Special Counsel, to obtain advice regarding statutory, regulatory, policy, and other requirements related to reasonable accommodation.

15. To a federal agency or federal entity authorized to procure assistive technologies and services in response to a request for reasonable accommodation.

16. To first aid and safety personnel if the individual's medical condition requires emergency treatment.

17. To another federal agency or oversight body charged with evaluating DNFSB's compliance with the laws, regulations, and policies governing reasonable accommodation requests.

18. To another Federal agency pursuant to a written agreement with DNFSB to provide services (such as medical evaluations), when necessary, in support of reasonable accommodation decisions.

POLICIES AND PRACTICES FOR STORAGE OF RECORDS:

Records are maintained electronically in an encrypted, password-protected, limited-access folder on DNFSB's local area network.

POLICIES AND PRACTICES FOR RETRIEVAL OF RECORDS:

Records are retrieved by an individual's name.

POLICIES AND PRACTICES FOR RETENTION AND DISPOSAL OF RECORDS:

The records in this system of records are maintained in accordance with General Records Schedule (GRS) 2.3.020, “Reasonable Accommodation Case Files.” They are destroyed three years after an individual's separation from the agency or all appeals are concluded, whichever is later, but longer retention is authorized if required for business use.

ADMINISTRATIVE, TECHNICAL, AND PHYSICAL SAFEGUARDS:

The records are protected from unauthorized access and misuse by a hierarchy of administrative, technical, and physical controls combined with a role-based, need-to-know access control system, that is, one in which access to the records is granted only to those persons who have appropriate clearances or permissions and a demonstrated need to know the information for the performance of their duties.

The records are maintained in a password-protected, encrypted folder on DNFSB's General Support System-Local Area Network (GSS-LAN), the ethernet-based network connecting all of DNFSB's user workstations with the centralized file servers used to store data and host applications. The security controls maintained for the GSS-LAN are in compliance with the Federal Information Systems Modernization Act (Pub. L. 113-283), the relevant policies of the Office of Management and Budget. The records are accessible only to members of a security group established by DNFSB's IT System Administrator. Only the designated owner of the security group is authorized to identify the individuals to be added and removed from the group, and only the IT System Administrator can implement those decisions.

RECORD ACCESS PROCEDURES:

1. Notification: An individual who wishes to know whether this system of records contains any information pertaining to himself or herself may file a request for such information in person or in writing. Written requests should be addressed to: Privacy Act Officer, Defense Nuclear Facilities Safety Board, 625 Indiana Avenue NW, Suite 700, Washington, DC 20004-2901. Telephonic requests should be made by calling the Board's switchboard at (202) 208-6400 and asking to speak to the Privacy Act Officer.

2. Access (copies): Individuals who wish to obtain copies of records containing their personal information may submit a written request to the Privacy Act Officer, Defense Nuclear Facilities Safety Board, 625 Indiana Avenue NW, Suite 700, Washington, DC 20004-2901 or by emailing FOIA@dnfsb.gov. Such requests must contain:

A. The requester's complete name, address, and telephone number;

B. Proof of identification consisting of a copy of one of the following: valid driver's license, valid passport, or other current identification containing both an address and picture of the requester.

C. The system of records in which the desired information is contained.

3. Access (in person): Individuals who wish to view their records in person should call the Privacy Act Officer at (202) 694-7000 (Toll Free (800)-788-4016) at least two weeks before the date on which they would like to visit and be prepared to provide his/her full name, address, telephone number, and the system of records in which the desired information is contained. Thereafter, the Privacy Act Officer will determine if the Board does maintain the requested information, and if the result of that investigation is affirmative, he/she will call the requester to arrange a date and time for the records to be made available. Before being allowed to view the records, the individual seeking access will be required to supply proof of or his/her identity by providing of a copy of a valid driver's license, valid passport, or other current identification that contains both an address and picture of the requester.

CONTESTING RECORD PROCEDURES:

Individuals may submit written requests for correction of a record pertaining to themselves to: Privacy Act Officer, Defense Nuclear Facilities Safety Board, 625 Indiana Avenue NW, Suite 700, Washington, DC 20004-2901. Such letters should clearly identify the corrections desired, and an edited copy of the record will usually be acceptable for that purpose.

EXEMPTIONS PROMULGATED FOR THE SYSTEM:

None.

Dated: August 17, 2022.
Joyce Connery,
Chair.

[FR Doc. 2022-18070 Filed 8-19-22; 8:45 am]

BILLING CODE 3670-01-P